DEPARTMENT OF THE INTERIOR

Bureau of Land Management

[OR-930-6350-DQ-047H] HAG-08-0204

Notice of Availability of the Final Environmental Impact Statement for the Revision of the Resource Management Plans of the Western Oregon Bureau of Land Management Districts of Salem, Eugene, Roseburg, Coos Bay, and Medford, and the Klamath Falls Resource Area of the Lakeview District

AGENCY: Bureau of Land Management, Interior.

ACTION: Notice of Availability.

SUMMARY: In accordance with the National Environmental Policy Act of 1969 and the Federal Land Policy and Management Act of 1976, the Bureau of Land Management (BLM) has prepared six Resource Management Plans with a single associated Final Environmental Impact Statement (RMP/FEIS) for the Salem, Eugene, Roseburg, Coos Bay, and Medford Districts and the Klamath Falls Resource Area of the Lakeview District in western Oregon.

DATES: The Assistant Secretary of the Interior for Land and Minerals Management is the responsible official for the RMP. Accordingly, there will be no administrative review “protest” on the RMP/FEIS under 43 CFR 1610.5-2. The Record of Decision (ROD) will not be signed until at least 30 days after the Environmental Protection Agency (EPA) publishes this notice of availability of the Final EIS in the Federal Register.

ADDRESSES: Copies of the RMP/FEIS have been sent to affected federal, state, and local government agencies, and to tribal governments. Interested persons may review the RMP/FEIS on the Internet at http://www.blm.gov/or/plans/wopr/index.php. Copies of the RMP/FEIS are available for public inspection at Salem, Eugene, Roseburg, Coos Bay, and Medford District offices and the Grants Pass, Klamath Falls and Tillamook Resource Area offices.

FOR FURTHER INFORMATION, CONTACT: Jerry Hubbard, Western Oregon Plan Revisions Public Outreach Coordinator; at (503) 808-6115.

SUPPLEMENTARY INFORMATION: The BLM has analyzed revision of six Resource Management Plans with this single Environmental Impact Statement. These plans are the Salem, Eugene, Roseburg, Medford, and Coos Bay District RMPs and the Klamath Falls Resource Area RMP. The RMP/FEIS for the Western Oregon Bureau of Land Management Districts has identified and analyzed four action alternatives, including the RMP, for managing approximately 2,550,000 acres of federal land, most of which are revested Oregon and California Railroad Grant and Coos Bay Wagon Road Grant lands, within the western Oregon planning area.

The major resource management plan issues include:

• Providing a sustainable supply of wood and other forest products, as mandated by the Oregon & California Lands Act of 1937, while also meeting other applicable laws.

• Providing for conservation of species listed under the Endangered Species Act.

• Contributing to meeting the goals of the Clean Water Act and the Safe Drinking Water Act.

• Reducing the risk of wildfire and integrating fire back into the ecosystem.

Comments received on the Draft Environmental Impact Statement (DEIS) were important in shaping the Resource Management Plans. The RMP is based on Alternative 2 from the DEIS, but includes portions of the other alternatives in the DEIS.

Some of the key changes include:

• Wider riparian management areas, as described in Alternative 1 of the DEIS.

• Late successional management areas were reconfigured to match the Final Northern Spotted Owl Recovery Plan.

• Deferring harvest for 15 years in “older and more structurally complex multi-layered conifer stands,” as described in Final Northern Spotted Owl Recovery Plan in the timber management area.

• Using uneven-aged management, as described in Alternative 3 of the DEIS, in the southern portion of the Medford District and the Klamath Falls Resource Area to decrease fire hazard and increase fire resiliency.

Dated: September 8, 2008.
Edward W. Shepard,
State Director, Oregon/Washington, Bureau of Land Management.

1

[FR Doc. E8-24655 Filed 10-16-08; 8:45 am]

BILLING CODE 4310-33-P